DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 19 individuals and 12 entities whose property and interests in property have been blocked pursuant to the Foreign Narcotics Kingpin Designation Act (“Kingpin Act”) (21 U.S.C. 1901-1908, 8 U.S.C. 1182).

DATES: The designation by the Director of OFAC of the 19 individuals and 12 entities identified in this notice pursuant to section 805(b) of the Kingpin Act is effective on May 6, 2010.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 6, 2010, the Director of OFAC designated 19 individuals and 12 entities whose property and interests in property are blocked pursuant to section 805(b) of the Foreign Narcotics Kingpin Designation Act.

The list of additional designees is as follows:

Individuals

1. JIMENEZ URREGO, Maria Mercedes, c/o NEGOCIAMOS MCM LTDA, Bogota, Colombia; DOB 16 Jul 1968; Citizen Colombia; Cedula No. 51921171 (Colombia); (INDIVIDUAL) [SDNTK]

2. JIMENEZ URREGO, Jorge Enrique, Bogota, Colombia; DOB 13 Jan 1957; Citizen Colombia; Cedula No. 73073242 (Colombia); Passport AK353217 (Colombia); Passport AJ096613 (Colombia); (INDIVIDUAL) [SDNTK]

3. JIMENEZ URREGO, Blanca Virginia, c/o JUAN SEBASTIAN Y CAMILA ANDREA JIMENEZ RAMIREZ Y CIA S.C.S., Bogota, Colombia; DOB 29 May 1960; Citizen Colombia; Cedula No. 21030774 (Colombia); (INDIVIDUAL) [SDNTK]

4. JIMENEZ URREGO, Carmen Rosa, c/o FIMESA DE COLOMBIA S.A., Bogota, Colombia; c/o C.I. STONES AND BYPRODUCTS TRADING S.A., Bogota, Colombia; c/o PROMOTORA DE MATERIAS PRIMAS ORGANICAS DEL TOLIMA LTDA, Bogota, Colombia; DOB 23 Aug 1965; Citizen Colombia; Cedula No. 51788462 (Colombia); Passport AI822940 (Colombia); (INDIVIDUAL) [SDNTK]

5. URREGO ESCUDERO, Carlos Agustin, Colombia; DOB 19 Feb 1976; Citizen Colombia; Cedula No. 79928745 (Colombia); Passport AF392658 (Colombia); (INDIVIDUAL) [SDNTK]

6. RINCON MOLINA, Jose Manuel, Bogota, Colombia; Cedula No. 11299940 (Colombia); (INDIVIDUAL) [SDNTK]

7. PEREZ CORDOBA, Jose Maria, Bogota, Colombia; Cedula No. 93085488 (Colombia); (INDIVIDUAL) [SDNTK]

8. QUIMBAYO CABEZAS, Elsa, Bogota, Colombia; Citizen Colombia; Cedula No. 65550166 (Colombia); (INDIVIDUAL) [SDNTK]

9. CASTILLO RODRIGUEZ, Flor Nelsy, Bogota, Colombia; Citizen Colombia; Cedula No. 38260687 (Colombia); (INDIVIDUAL) [SDNTK]

10. BALLEN SOLANO, German, Bogota, Colombia; DOB 13 Sep 1958; Citizen Colombia; Cedula No. 11254250 (Colombia); (INDIVIDUAL) [SDNTK]

11. GUTIERREZ LARA, Mario Alejandro, Bogota, Colombia; Cedula No. 93086968 (Colombia); (INDIVIDUAL) [SDNTK]

12. GUTIERREZ LARA, Liliana Paola, Bogota, Colombia; DOB 16 May 1983; Citizen Colombia; Cedula No. 65557064 (Colombia); (INDIVIDUAL) [SDNTK]

13. JIMENEZ URREGO, Luz Marina, c/o C.I. STONES AND BYPRODUCTS TRADING S.A., Bogota, Colombia; c/o C.I. AGROINDUSTRIAL DE MATERIAS PRIMAS ORGANICAS LTDA, Bogota, Colombia; c/o MERCADO DE VALORES INTEGRADOS LTDA, Bogota, Colombia; c/o JUAN SEBASTIAN Y CAMILA ANDREA JIMENEZ RAMIREZ Y CIA S.C.S., Bogota, Colombia; c/o COMUNICACIONES ELYON, Bogota, Colombia; DOB 05 Feb 1962; Citizen Colombia; Cedula No. 39526273 (Colombia); Passport AJ582409 (Colombia); (INDIVIDUAL) [SDNTK]

14. BALLEN SOLANO, Manuel Humberto, Bogota, Colombia; DOB 22 Sep 1956; Citizen Colombia; Cedula No. 19295921 (Colombia); (INDIVIDUAL) [SDNTK]

15. RAMIREZ BONILLA, Gloria Ines, c/o C.I. STONES AND BYPRODUCTS TRADING S.A., Bogota, Colombia; c/o C.I. AGROINDUSTRIAL DE MATERIAS PRIMAS ORGANICAS LTDA, Bogota, Colombia; c/o JUAN SEBASTIAN Y CAMILA ANDREA JIMENEZ RAMIREZ Y CIA S.C.S., Bogota, Colombia; DOB 28 Jan 1969; Citizen Colombia; Cedula No. 65552011 (Colombia); (INDIVIDUAL) [SDNTK]

16. CLAVIJO ROMERO, Andres Elias, c/o C.I. STONES AND BYPRODUCTS TRADING S.A., Bogota, Colombia; c/o C.I. AGROINDUSTRIAL DE MATERIAS PRIMAS ORGANICAS LTDA, Bogota, Colombia; c/o PROMOTORA DE MATERIAS PRIMAS ORGANICAS DEL TOLIMA LTDA, Bogota, Colombia; c/o MERCADO DE VALORES INTEGRADOS LTDA, Bogota, Colombia; c/o JUAN SEBASTIAN Y CAMILA ANDREA JIMENEZ RAMIREZ Y CIA S.C.S., Bogota, Colombia; c/o PROFESIONALES EN GANADERIA, Bogota, Colombia; DOB 29 Jun 1973; Citizen Colombia; Cedula No. 79209806 (Colombia); (INDIVIDUAL) [SDNTK]

17. CAMACHO RINCON, Juan Manuel, c/o LULU COM, Bogota, Colombia; DOB 16 Feb 1980; Citizen Colombia; Cedula No. 6107716 (Colombia); (INDIVIDUAL) [SDNTK]

18. DIAZ HERRERA, Jose Ricuarte, c/o PROMOTORA HOTELERA LTDA, Bogota, Colombia; DOB 16 Aug 1958; POB Venecia, Cundinamarca, Colombia; Citizen Colombia; Cedula No. 79263544 (Colombia); (INDIVIDUAL) [SDNTK]

19. MORENO BERNAL, Luz Marina, c/o PROMOTORA HOTELERA LTDA, Bogota, Colombia; DOB 02 Jul 1955; POB Bogota, Colombia; Citizen Colombia; Cedula No. 41703570 (Colombia); (INDIVIDUAL) [SDNTK]

Entities

1. NEGOCIAMOS MCM LTDA, Avenida Calle 26 No. 69C-03, Local 214, Bogota, Colombia; NIT # 830105059-7 (Colombia); (ENTITY) [SDNTK]

2. FIMESA DE COLOMBIA S.A., Transversal 14 No. 119-67 Interior 4, Oficina 203, Bogota, Colombia; NIT # 830129115-5 (Colombia); (ENTITY) [SDNTK]

3. C.I. STONES AND BYPRODUCTS TRADING S.A., Transversal 14 No. 119-67 Interior 4, Bogota, Colombia; NIT # 830003485-3 (Colombia); (ENTITY) [SDNTK]

4. PROMOTORA DE MATERIAS PRIMAS ORGANICAS DEL TOLIMA LTDA (a.k.a. PROMATOL LTDA); Calle 24 D Bis No. 73C-03, Bogota, Colombia; NIT # 900081489-9 (Colombia); (ENTITY) [SDNTK]

5. C.I. AGROINDUSTRIAL DE MATERIAS PRIMAS ORGANICAS LTDA (a.k.a. C.I. PRORGANICAS LTDA); Calle 24D Bis No. 73C-03, Bogota, Colombia; NIT # 830025144-1 (Colombia); (ENTITY) [SDNTK]

6. MERCADO DE VALORES INTEGRADOS LTDA (a.k.a. VALINTEGRADOS LTDA); Calle 24D Bis No. 73C-03, Bogota, Colombia; NIT # 830034151-1 (Colombia); (ENTITY) [SDNTK]

7. JUAN SEBASTIAN Y CAMILA ANDREA JIMENEZ RAMIREZ Y CIA S.C.S., Calle 24D Bis No. 73C-03, Bogota, Colombia; NIT # 830092190-6 (Colombia); (ENTITY) [SDNTK]

8. LULU COM, Carrera 100 No. 221-12, Bogota, Colombia; Matricula Mercantil No 1783623 (Colombia); (ENTITY) [SDNTK]

9. PROFESIONALES EN GANADERIA, Carrera 49 No. 37-64 Sur, Bogota, Colombia; NIT # 79209806-6 (Colombia); Matricula Mercantil No. 01414983 (Colombia); (ENTITY) [SDNTK]

10. COMUNICACIONES ELYON, Carrera 9 No. 22-59 Loc. 14, Bogota, Colombia; Matricula Mercantil No. 1579615 (Colombia); (ENTITY) [SDNTK]

11. PROMOTORA HOTELERA LTDA (a.k.a. COMERCIAL PROMOTELES); Calle 114 No. 9-01, Bogota, Colombia; NIT # 8300125383 (Colombia); (ENTITY) [SDNTK]

12. INVERSIONES GRANDA RESTREPO Y CIA S.C.S. (a.k.a. INGRANRES); Carrera 4 No. 24-37 Trr. B Apto. 202, Bogota, Colombia; NIT # 830002677-6 (Colombia); (ENTITY) [SDNTK]

Dated: May 6, 2010.
Adam J. Szubin,
Director, Office of Foreign Assets Control.

[FR Doc. 2010-11428 Filed 5-12-10; 8:45 am]

BILLING CODE 4810-AL-P